FEDERAL MARITIME COMMISSION

Ocean Transportation Intermediary License; Applicant

Notice is hereby given that the following applicant has filed with the Federal Maritime Commission an application for license as an Ocean Freight Forwarder—Ocean Transportation Intermediary pursuant to section 19 of the Shipping Act of 1984 as amended (46 U.S.C. app. 1718 and 46 CFR part 515).

Persons knowing of any reason why the following applicant should not receive a license are requested to contact the Office of Transportation Intermediaries, Federal Maritime Commission, Washington, DC 20573.

Ocean Freight Forwarder—Ocean Transportation Intermediary Applicant:

Promptus, LLC, 3345 NW. 116th Street, Miami, FL 33167. Officers: Milton Tejada, Operating Manager, (Qualifying Individual), Julio Desangles, Secretary.

Dated: March 26, 2004.
Bryant L. VanBrakle,
Secretary.

[FR Doc. 04-7254 Filed 3-30-04; 8:45 am]

BILLING CODE 6730-01-P